INTERNATIONAL TRADE COMMISSION

[Investigation Nos. 701-TA-748-749 and 731-TA-1726-1727 (Preliminary)]

Float Glass Products From China and Malaysia; Revised Schedule for the Subject Investigations

AGENCY: United States International Trade Commission.

ACTION: Notice.

DATES: December 17, 2024.

FOR FURTHER INFORMATION CONTACT: Kristina Lara (202-205-3386), Office of Investigations, U.S. International Trade Commission, 500 E Street SW, Washington, DC 20436. Hearing-impaired persons can obtain information on this matter by contacting the Commission's TDD terminal on 202-205-1810. Persons with mobility impairments who will need special assistance in gaining access to the Commission should contact the Office of the Secretary at 202-205-2000. General information concerning the Commission may also be obtained by accessing its internet server (https://www.usitc.gov). The public record for these investigations may be viewed on the Commission's electronic docket (EDIS) at https://edis.usitc.gov.

SUPPLEMENTARY INFORMATION: On November 21, 2024, the Commission established a schedule for the conduct of the preliminary phase of the subject investigations (89 FR 93651, November 27, 2024). Subsequently, the Department of Commerce (“Commerce”) extended the deadline for its initiation determinations from December 11, 2024 to December 31, 2024 (89 FR 102113, December 17, 2024). The Commission, therefore, is revising its schedule to conform with Commerce's new schedule.

The Commission must reach preliminary determinations by January 27, 2025, and the Commission's views must be transmitted to Commerce within five business days thereafter, or by February 3, 2025.

For further information concerning this proceeding, see the Commission's notice cited above and the Commission's Rules of Practice and Procedure, part 201, subparts A through E (19 CFR part 201), and part 207, subparts A and C (19 CFR part 207).

Authority: These investigations are being conducted under authority of title VII of the Tariff Act of 1930; this notice is published pursuant to § 207.21 of the Commission's rules.

By order of the Commission.
Issued: December 17, 2024.
Lisa Barton,
Secretary to the Commission.

[FR Doc. 2024-30487 Filed 12-20-24; 8:45 am]

BILLING CODE 7020-02-P